DEPARTMENT OF DEFENSE

Defense Acquisition Regulations System

48 CFR Parts 202, 204, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed administrative and editorial changes.

DATES: Effective Date: April 19, 2011.

FOR FURTHER INFORMATION CONTACT: Ms. Ynette Shelkin, Defense Acquisition Regulations System, OUSD (AT&L) DPAP (DARS), Room 3B855, 3060 Defense Pentagon, Washington, DC 20301-3060. Telephone 703-602-0311; facsimile 703-602-0350.

SUPPLEMENTARY INFORMATION: This final rule amends the DFARS as follows:

○ 202.1; 204.72. Updates references to the Defense Logistics Agency.

○ 252.216-7004. Provides needed editorial changes in the clause number in the heading of the clause and in the introductory text.

○ 252.234-7003. Makes needed editorial corrections in the introductory text and adds the provision title and date.

List of Subjects in 48 CFR Parts 202, 204, and 252

Government procurement.

Ynette R. Shelkin,
Editor, Defense Acquisition Regulations System.

Therefore, 48 CFR parts 202, 204, and 252 are amended as follows:

1. The authority citation for 48 CFR parts 202, 204, and 252 continues to read as follows:

Authority: 41 U.S.C. 1303 and 48 CFR chapter 1.

PART 202—DEFINITIONS OF WORDS AND TERMS

2. Amend section 202.101 by revising the entry for “Defense Logistics Agency” in the definition of “contracting activity” to read as follows:

202.101 Definitions.

* * * * *

Contracting activity * * *

Defense Logistics Agency

DLA Acquisition (J-7)

DLA Aviation

DLA Energy

DLA Land and Maritime

DLA Troop Support

* * * * *

PART 204—ADMINISTRATIVE MATTERS

3. Amend section 204.7201 by revising paragraphs (a)(1) and (2) to read as follows:

204.7201 Definitions.

(a) * * *

(1) A code assigned by the DLA Logistics Information Service to identify a commercial or Government entity; or

(2) A code assigned by a member of the North Atlantic Treaty Organization (NATO) that DLA Logistics Information Service records and maintains in the CAGE master file. This type of code is known as an “NCAGE code.”

* * * * *

4. Amend section 204.7202-1 by revising paragraphs (a), (b)(1),(b)(2)(i)(A) and (b)(2)(i)(B), (b)(2)(ii), and (c) to read as follows:

204.7202-1 CAGE codes.

(a) DLA Logistics Information Service assigns or records and maintains CAGE codes to identify commercial and Government entities. DoD 4000.25-5-M, Military Standard Contract Administration Procedures (MILSCAP), and Volume 7 of DoD 4100.39-M, Federal Logistics Information System (FLIS) Procedures Manual, prescribe use of CAGE codes.

(b)(1) If a prospective contractor located in the United States must register in the Central Contractor Registration (CCR) database (see FAR subpart 4.11) and does not have a CAGE code, DLA Logistics Information Service will assign a CAGE code when the prospective contractor submits its request for registration in the CCR database. Foreign registrants must obtain a North Atlantic Treaty Organization CAGE (NCAGE) code in order to register in the CCR database. NCAGE codes may be obtained from the Codification Bureau in the foreign registrant's country. Additional information on obtaining NCAGE codes is available at http://www.dlis.dla.mil/Forms/Form_AC135.asp.

(2) * * *

(i) * * *

(A) The monthly H-series CD-ROM that contains the H-4/H-8 CAGE master file issued by DLA Logistics Information Service. (Their address is: Customer Service, Federal Center, 74 Washington Avenue, North, Battle Creek, MI 49017-3084. Their telephone number is: Toll-free 888-352-9333);

(B) The on-line access to the CAGE file through the DLA Logistics Information System [Service];

* * *

(ii) If no CAGE code is identified through use of the procedures in paragraph (b)(2)(i) of this subsection, ask DLA Logistics Information Service to assign a CAGE code. Submit a DD Form 2051, Request for Assignment of a Commercial and Government Entity (CAGE) Code, (or electronic equivalent) to the address in paragraph (b)(2)(i)(A) of this subsection, ATTN: DLIS-SBB. The contracting office completes Section A of the DD Form 2051, and the contractor completes Section B. The contracting office must verify Section B before submitting the form.

(c) Direct questions on obtaining computer tapes, electronic updates, or code assignments to DLA Logistics Information Service Customer Service: Toll-free 888-227-2423 or 888-352-9333; DSN 932-4725; or commercial 616-961-4725.

5. Amend section 204.7204 by revising paragraph (a) introductory text and paragraph (b) to read as follows:

204.7204 Maintenance of the CAGE file.

(a) DLA Logistics Information Service will accept written requests for changes to CAGE files, other than name changes, from the following entities:

* * * * *

(b) Submit requests for changes to CAGE files on DD Form 2051, or electronic equivalent, to—

DLA Logistics Information Service, DLIS-SBB, Federal Center, 74 Washington Avenue, North, Battle Creek, MI 49017-3084. Telephone Numbers: toll-free 888-352-9333, DSN 932-4725, commercial 616-961-4725. Facsimile: 616-961-4388, -4485.

* * * * *

PART 252—SOLICITATION PROVISIONS AND CONTRACT CLAUSES

6. Amend section 252.216-7004 by revising the section heading and introductory text to read as follows:

252.216-7004 Award Fee Reduction or Denial for Jeopardizing the Health or Safety of Government Personnel.

As prescribed in 216.406, use the following clause:

* * * * *

[FR Doc. 2011-8955 Filed 4-18-11; 8:45 am]

BILLING CODE 5001-08-P